SECURITIES AND EXCHANGE COMMISSION

[Release No. 34-43859; File No. SR-NYSE-00-62]

Self-Regulatory Organizations; Notice of Filing of Proposed Rule Change by the New York Stock Exchange, Inc. Relating to Specialists' Specialty Stock Option Transactions

Correction

In notice document 01-2379 beginning on page 7945 in the issue of Friday, January 26, 2001, make the following correction:

On page 7945, in the third column, in the second paragraph, beginning in the second line, remove “approved person is so ating as an options market maker pursuant to this paragraph, neither that”.

[FR Doc. C1-2379 Filed 2-26-01; 8:45 am]

BILLING CODE 1505-01-D

SECURITIES AND EXCHANGE COMMISSION

[Release No. 34-43941; File No. SR-PCX-00-40]

Self-Regulatory Organizations; Order Approving a Proposed Rule Change by the Pacific Exchange, Inc. Relating to Audit Committee Requirements for Listed Companies

February 7, 2001.

Correction

In notice document 01-3803 beginning on page 10545 in the issue of Thursday, February 15, 2001, make the following correction:

On page 10545, in the third column, in the heading, the date should read as set forth above.

[FR Doc. C1-3803 Filed 2-26-01; 8:45 am]

BILLING CODE 1505-01-D